DEPARTMENT OF LABOR

Mine Safety and Health Administration

[OMB Control No. 1219-0141]

Proposed Extension of Information Collection: Emergency Mine Evacuation

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “Emergency Mine Evacuation.”

DATES: All comments must be received on or before September 2, 2025.

ADDRESSES: Comments concerning the information collection requirements of this notice may be sent by any of the methods listed below. Please note that late comments received after the deadline will not be considered.

• Federal E-Rulemaking Portal: https://www.regulations.gov. Follow the on-line instructions for submitting comments for docket number MSHA-2025-0036.

• Mail/Hand Delivery: DOL-MSHA, Office of Standards, Regulations, and Variances, 200 Constitution Avenue NW, Room C3522, Washington, DC 20210. Before visiting MSHA in person, call 202-693-9455 to make an appointment.

• MSHA will post all comments as well as any attachments, except for information submitted and marked as confidential, in the docket at https://www.regulations.gov.

FOR FURTHER INFORMATION CONTACT: Jessica Senk, Acting Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

The Paperwork Reduction Act of 1995 (PRA) governs paperwork burdens imposed on the public by Federal agencies for using identical questions to collect information from 10 or more persons. The PRA defines paperwork burden in 44 U.S.C. 3502(2) as time, effort, or financial resources expended to generate, maintain, or provide information to or for a Federal agency. Under 44 U.S.C. 3507, the PRA also establishes policies and procedures of information collection for controlling paperwork burdens imposed by Federal agencies on the public, including evaluating public comments.

B. Information Collection

To fulfill its statutory mandate to promote miners' health and safety, MSHA requires information collected under the information collection request (ICR) titled “Emergency Mine Evacuation.” The information collection is intended to ensure that all miners receive training on the mine's emergency evacuation plan and self-rescuers. Specifically, miner training for mine emergencies includes mine emergency firefighting and evacuation training and drills; storing, testing, tracking, and using self-contained self-rescuers (SCSRs); and installing and maintaining escapeways in underground coal mines. Mine operators must also maintain an inventory of SCSRs and ensure they are operational in case of an emergency.

Burden costs associated with this information collection request include:

i. Submission of revised training plans;

ii. Submission of new and revised mine emergency evacuation and firefighting programs of instruction;

iii. Certifications of mine emergency evacuation training and drills;

iv. Revisions to and post escapeway maps;

v. Certifications of filter self-rescuers (FSR) and SCSR tests

vi Reporting of SCSR inventories and malfunctions; and

vii. Signs of SCSR storage.

Authorization and the associated rule text are described below.

1. Submission of Revised Training Plans

Under 30 CFR 48.3(p), each underground coal mine operator who is required to submit a revised mine emergency evacuation and firefighting program of instruction under 30 CFR 75.1502 must also submit a revised training plan under part 48.

2. Submission of New and Revised Mine Emergency Evacuation and Firefighting Programs of Instruction

Under 30 CFR 75.1502(a), mine operators must submit a mine emergency evacuation and firefighting program of instruction and any revisions, for approval to the District Manager in which the mine is located. Within 30 days of approval, the operator must conduct training in accordance with the revised program.

Under 30 CFR 75.1502(c), the approved program must include a specific plan designed to instruct miners on all shifts on the following: procedures for evacuating the mine; procedures related to deploying refuge alternatives; training on location, quantity, types, and use of stored SCSRs; and other information.

3. Certification of Mine Emergency Evacuation Training and Drills

Under 30 CFR 75.1504, each operator of an underground coal mine must conduct mine emergency evacuation training and drills and require all miners to participate.

Under 30 CFR 75.1504(a), all miners must participate in a mine emergency evacuation training and drill once each quarter.

Under 30 CFR 75.1504(a)(1), a newly hired miner, who has not participated in a mine emergency evacuation training and drill at the mine within the previous 3 months, must participate in the next applicable mine emergency evacuation training and drill.

Under 30 CFR 75.1504(a)(2), prior to assuming duties on a section or outby work location, a foreman must travel both escapeways in their entirety.

Under 30 CFR 75.1504(b), each quarterly evacuation training and drill must include the following: hands-on training on all types of self-rescue devices and fire suppression equipment used at the mine; training that emphasizes the importance of proper use of the SCSR; a realistic escapeway drill; a review of the mine and escapeway maps, the firefighting plan, and the mine emergency evacuation plan in effect at the mine; and a review of the procedures for deploying refuge alternatives and components.

Under 30 CFR 75.1504(c), over the course of each year, each miner must participate in annual expectations training that includes the following: donning and transferring SCSRs in smoke, simulated smoke, or an equivalent environment; breathing through a realistic SCSR training unit that provides the sensation of SCSR airflow resistance and heat; and deployment and use of refuge alternatives similar to those in use at the mine.

Under 30 CFR 75.1504(d), at the completion of each training or drill, mine operators must certify by signature and date that the training or drill was held in accordance with the requirements in 30 CFR 75.1504.

Under 30 CFR 75.1504(d)(1), the certification must include the names of the miners participating in the training or drill and the content of the training or drill component completed, including the escapeway traveled and scenario used, for each miner listed.

Under 30 CFR 75.1504(d)(2), the mine operator is required to keep the certifications at the mine for one year.

Under 30 CFR 75.1504(d)(3), upon request, the certifications must be made available to an authorized representative of the Secretary and the representative of the miners.

Under 30 CFR 75.1504(d)(4), upon request, a copy of the certification that shows his or her own training must be provided to the participating miner.

4. Revisions to and Posting of Escapeway Maps

a. Revisions To Escapeway Maps

Under 30 CFR 75.1505(b), all maps must be kept up-to-date and any change in route of travel, location of doors, location of refuge alternatives, or direction of airflow must be shown on the maps by the end of the shift on which the change is made.

Under 30 CFR 75.1714-5, the mine operator must indicate the locations of all stored SCSRs on the mine maps required by 30 CFR 75.1200 and the escapeway maps required by 30 CFR 75.1505.

b. Posting of Escapeway Maps

Under 30 CFR 75.1505(a), an escapeway map must show the designated escapeways from the working sections or the miners' work stations to the surface or the exits at the bottom of the shaft or slope, refuge alternatives, and SCSR storage locations. The escapeway map must be posted or readily accessible for all miners—

i. In each working section;

ii. In each area where mechanized mining equipment is being installed or removed;

iii. At the refuge alternative; and

iv. At a surface location of the mine where miners congregate, such as at the mine bulletin board, bathhouse, or waiting room.

5. Certification of FSR and SCSR Tests

Under 30 CFR 75.1714-3(b), after each time a self-rescue device is worn or carried by a person, the device must be inspected for damage and for the integrity of its seal by a person trained to perform this function. Self-rescue devices with broken seals or which are damaged so that the device will not function properly must be removed from service.

Under 30 CFR 75.1714-3(c), all FSRs approved by MSHA and NIOSH under 42 CFR part 84, except devices using vacuum containers as the only method of sealing, must be tested at intervals not exceeding 90 days by weighing each device on a scale or balance accurate to within + 1 gram. A device that weighs more than 10 grams over its original weight must be removed from service.

Under 30 CFR 75.1714-3(d), all SCSRs approved by MSHA and NIOSH under 42 CFR part 84 must be tested in accordance with instructions approved by MSHA and NIOSH. Any device which does not meet the specified test requirements must be removed from service.

Under 30 CFR 75.1714-3(e), at the completion of each test required by 30 CFR 75.1714-3(c) and (d), the person making the tests must certify by signature and date that the tests were done. This person must make a record of all corrective action taken. Certifications and records must be kept at the mine and made available on request to an authorized representative of the Secretary.

6. Reporting of SCSR Inventories and Malfunctions

Under 30 CFR 75.1714-8(a), a mine operator must submit to MSHA a complete inventory of all SCSRs at each mine. New mines must submit the inventory within 3 months of beginning operation.

Under 30 CFR 75.1714-8(a)(1), the inventory must include the mine name, MSHA mine ID number, and mine location; and for each SCSR unit, the manufacturer, the model type, the date of manufacture, and the serial number.

Under 30 CFR 75.1714-8(a)(2), in the event that a change in the inventory occurs, a mine operators must report the change to MSHA within the quarter that the change occurs (Jan-Mar, Apr-Jun, Jul-Sep, Oct-Dec).

Under 30 CFR 75.1714-8(b), a mine operator must report to MSHA any defect, performance problem, or malfunction with the use of an SCSR. The report must include a detailed description of the problem and, for each SCSR involved, the information required under 30 CFR 75.1714-8(a)(1).

Under 30 CFR 75.1714-8(c), the mine operator must preserve and retain each SCSR reported under 30 CFR 75.1714-8(b) for 60 days after reporting the problem to MSHA.

7. Signs of SCSR Storage

Under 30 CFR 75.1714-2(f), if an SCSR is not carried out of the mine at the end of a miner's shift, the place of storage must be approved by the District Manager. A sign made of reflective material with the word “SCSRs” or “SELF-RESCUERS” must be conspicuously posted at each SCSR storage location. Direction signs made of a reflective material must be posted leading to each storage location.

Under 30 CFR 75.1714-2(g)(2), when the one-hour canister is placed in a storage location, a sign made of a reflective material with the word “SCSRs” or “SELF-RESCUERS” must be conspicuously posted at each storage location. Direction signs made of a reflective material must be posted leading to each storage location.

Under 30 CFR 75.1714-4(f), a sign made of reflective material with the words “SCSRs” or “SELF-RESCUERS” must be conspicuously posted at each storage location. Direction signs made of a reflective material must be posted leading to each storage location.

II. Desired Focus of Comments

MSHA is soliciting comments concerning the proposed information collection titled “Emergency Mine Evacuation.” MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The ICR will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9455 to make an appointment.

Questions about the information collection requirements may be directed to the person listed in the FOR FURTHER INFORMATION section of this notice.

III. Current Actions

This ICR concerns provisions for Emergency Mine Evacuation. MSHA has updated the data with respect to the number of respondents, responses, time burden, and burden costs supporting this ICR from the previous information collection request.

Type of Review: Extension, without change, of a currently approved collection.

Agency: Mine Safety and Health Administration.

OMB Number: 1219-0141.

Affected Public: Business or other for-profit entity.

Number of Annual Respondents: 150.

Frequency: On occasion.

Number of Annual Responses: 979,804.

Annual Time Burden: 422,930 hours.

Annual Other Burden Costs: $37,352.

MSHA Form: MSHA Form 2000-222, Self-Contained Self-Rescuer (SCSR) Inventory and Report.

Comments submitted in response to this notice will be summarized and included in the request for Office of Management and Budget approval of the proposed ICR; they will become a matter of public record and be available at https://www.reginfo.gov.

Jessica Senk,
Certifying Officer, Mine Safety and Health Administration.

[FR Doc. 2025-12441 Filed 7-2-25; 8:45 am]

BILLING CODE 4510-43-P